DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Initial Patent Applications.

Form Number(s): PTO/SB/01-01A, PTO/SB/02A-02B, PTO/SB/02LR, PTO/SB/03-03A, PTO/SB/04-07, PTO/SB/13PCT, PTO/SB/16-19, PTO/SB/29-29A, PTO/SB/101-110, Electronic New Utility and Provisional Application Forms.

Agency Approval Number: 0651-0032.

Type of Request: Revision of a currently approved collection.

Burden: 4,171,568 hours annually.

Number of Respondents: 454,287 responses per year.

Avg. Hours Per Response: The USPTO estimates that it takes between 22 minutes to 10 hours and 45 minutes to gather the information, prepare, and submit the various paper and electronic applications and petitions in this collection, depending on the situation and the amount of information that needs to be submitted. The USPTO estimates that it takes 22 minutes to copy an oversized new original utility or provisional application that cannot be submitted electronically through EFS onto a CD-ROM, print the application transmittal, and prepare the cover letter submitting the submission.

Needs and Uses: The USPTO is submitting a proposed addition to this information collection in support of a notice of proposed rulemaking, entitled “Changes to Implement the Patent Search Fee Refund Provisions of the Consolidated Appropriations Act, 2005” (RIN 0651-AB79). The Consolidated Appropriations Act splits the patent application filing fee into a separate filing fee, search fee, and examination fee and provides for the refund of all or part of the search fee in certain situations. The USPTO is proposing changes to the rules of practice to implement the provisions for refunding the search fee for applicants who file a written declaration of express abandonment before the application has been examined. Neither the Consolidated Appropriations Act nor the proposed rule change the needs and uses currently reported for this collection.

Affected Public: Individuals or households; business or other for-profit; not-for-profit institutions, farms, the Federal Government, and State, local, or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0032 Initial Patent Applications copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before July 22, 2005 to David Rostker, OMB Desk Officer, Room 10202, New Executive Office Building, 725 17th Street NW., Washington, DC 20503.

Dated: June 15, 2005.
Susan K. Brown,
Records Officer, USPTO, Office of Data Architecture and Services, Data Administration Division.

[FR Doc. 05-12295 Filed 6-21-05; 8:45 am]

BILLING CODE 3510-16-P